DEPARTMENT OF LABOR

Office of the Secretary

Submission for OMB Review; Comment Request

September 20, 2000

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235 Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use appropriate automated, electronic, mechanical or other technological collection techniques or other forms of information technology, e.g., permitting electronic submission of responses.

Type of Review: Extension of a currently approved collection.

Agency: Employment Standards Administration (ESA).

Title: Health Insurance Claim Form.

OMB Number: 1215-0055.

Affected Public: Business or other for-profit; Not-for-profit institutions; Federal Government; State, Local or Tribal Government; and Individuals or households.

Frequency: On occasion.

Number of Respondents: 1,574,688.

Number of Annual Responses: 1,574,688.

Estimated Time Per Response: 7 minutes.

Total Burden Hours: 183,539.

Total Annualized Capital/Startup Costs: $0.

Total Annual Costs (operating/maintaining systems or purchasing services): $0.

Description: This information is required to reimburse health care providers for services rendered injured employees covered under the Federal Employees' Compensation Act (FECA) and the Federal Black Lung Benefits Act (FBLBA). Appropriate reimbursement cannot be made without documentation that details services provided by health care professionals throughout the country.

Ira L. Mills,
Departmental Clearance Officer.

[FR Doc. 00-24658 Filed 9-25-00; 8:45 am]

BILLING CODE 4510-47-M